DEPARTMENT OF TRANSPORTATION

Federal Aviation Administration

14 CFR Part 39

[Docket No. FAA-2017-0937; Product Identifier 2017-NE-32-AD; Amendment 39-19341; AD 2018-16-01]

RIN 2120-AA64

Airworthiness Directives; B/E Aerospace Fischer GmbH Attendant Seats and Pilot Seats

AGENCY: Federal Aviation Administration (FAA), DOT.

ACTION: Final rule; request for comments.

SUMMARY: We are adopting a new airworthiness directive (AD) for certain B/E Aerospace Fischer GmbH Attendant Seats NG and Pilot Seats 120/335. This AD requires removing and replacing the energy absorber (EA) assemblies on affected pilot seats and the removing and replacing affected attendant seats. This AD was prompted by the discovery that rivets with insufficient strength were used during the manufacture of EA assemblies installed on certain seats. We are issuing this AD to address the unsafe condition on these products.

DATES: This AD is effective August 31, 2018.

The Director of the Federal Register approved the incorporation by reference of a certain publication listed in this AD as of August 31, 2018.

We must receive comments on this AD by October 1, 2018.

ADDRESSES: You may send comments, using the procedures found in 14 CFR 11.43 and 11.45, by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue SE, Washington, DC 20590.

• Hand Delivery: U.S. Department of Transportation, Docket Operations, M-30, West Building Ground Floor, Room W12-140, 1200 New Jersey Avenue SE, Washington, DC 20590, between 9 a.m. and 5 p.m., Monday through Friday, except Federal holidays.

For service information identified in this final rule, contact B/E Aerospace Fischer GmbH, Müller-Armack-Str. 4, D-84034 Landshut, Germany; phone: +49 (0) 871 93248-0; fax: +49 (0) 871 93248-22; email: spares@fischer-seats.de. You may view this service information at the FAA, Engine & Propeller Standards Branch, 1200 District Avenue, Burlington, MA, 01803. For information on the availability of this material at the FAA, call 781-238-7759. It is also available on the internet at http://www.regulations.gov by searching for and locating Docket No. FAA-2017-0937.

Examining the AD Docket

You may examine the AD docket on the internet at http://www.regulations.gov by searching for and locating Docket No. FAA-2017-0937; or in person at Docket Operations between 9 a.m. and 5 p.m., Monday through Friday, except Federal holidays. The AD docket contains this final rule, the mandatory continuing airworthiness information (MCAI), the regulatory evaluation, any comments received, and other information. The street address for Docket Operations (phone: 800-647-5527) is listed above. Comments will be available in the AD docket shortly after receipt.

FOR FURTHER INFORMATION CONTACT: Dorie Resnik, Aerospace Engineer, Boston ACO Branch, FAA, 1200 District Avenue, Burlington, MA, 01803; phone: 781-238-7693; fax: 781-238-7199; email: dorie.resnik@faa.gov.

SUPPLEMENTARY INFORMATION:

Discussion

The European Aviation Safety Agency (EASA), which is the Technical Agent for the Member States of the European Community, has issued EASA AD 2016-0210, dated October 24, 2016 (referred to after this as “the MCAI”), to address an unsafe condition for the specified products. The MCAI states:

It was discovered that rivets with insufficient strength were used during the manufacturing of energy absorber (EA) assemblies, installed on certain seats. As a consequence, these EA assemblies may not be fully functional during an emergency landing.

This condition, if not corrected, could lead to injury of the seat occupant.

To address this unsafe condition, B/E Aerospace Fisher issued Service Bulletin (SB) SB 9911-001 to provide replacement instructions.

For the reason described above, this [EASA] AD requires replacement of the EA assemblies on the affected seats.

You may obtain further information by examining the MCAI in the AD docket on the internet at http://www.regulations.gov by searching for and locating Docket No. FAA-2017-0937.

Related Service Information Under 1 CFR Part 51

We reviewed B/E Aerospace Fischer Alert Service Bulletin (ASB) No. SB 9911-001, Issue B, dated November 4, 2016. The ASB describes procedures for removing and replacing the EA assemblies on affected pilot seats and the removing and replacing affected attendant seats. This service information is reasonably available because the interested parties have access to it through their normal course of business or by the means identified in the ADDRESSES section.

FAA's Determination

This product has been approved by EASA, and is approved for operation in the United States. Pursuant to our bilateral agreement with the European Community, EASA has notified us of the unsafe condition described in the MCAI and service information referenced above. We are issuing this AD because we evaluated all the relevant information provided by EASA and determined the unsafe condition described previously is likely to exist or develop in other products of the same type design.

AD Requirements

This AD requires removing and replacing the EA assemblies on affected pilot seats and removing and replacing the affected attendant seats.

FAA's Justification and Determination of the Effective Date

No domestic operators use this product. Therefore, we find good cause that notice and opportunity for prior public comment are unnecessary. In addition, for the reason stated above, we find that good cause exists for making this amendment effective in less than 30 days.

Comments Invited

This AD is a final rule that involves requirements affecting flight safety and was not preceded by notice and an opportunity for public comment. However, we invite you to send any written data, views, or arguments about this final rule. Send your comments to an address listed under the ADDRESSES section. Include the docket number FAA-2017-0937 and Product Identifier 2017-NE-32-AD at the beginning of your comments. We specifically invite comments on the overall regulatory, economic, environmental, and energy aspects of this final rule. We will consider all comments received by the closing date and may amend this final rule because of those comments.

We will post all comments we receive, without change, to http://www.regulations.gov, including any personal information you provide. We will also post a report summarizing each substantive verbal contact we receive about this final rule.

Costs of Compliance

We estimate that this AD affects 0 pilot seats and 0 attendant seats installed on aircraft of U.S. registry.

We estimate the following costs to comply with this AD:

Estimated Costs
Action | Labor cost | Parts cost | Cost per product | Cost on U.S. operators
Inspect to determine if re-work has been accomplished | 1 work-hour × $85 per hour = $85 | $0 | $85 | $0
Replace EA assembly | 2 work-hours × $85 per hour = $170 | 20,000 | 20,170 | 0
Remove and replace attendant seat | 2 work-hour × $85 per hour = $170 | 10,000 | 10,170 | 0

Authority for This Rulemaking

Title 49 of the United States Code specifies the FAA's authority to issue rules on aviation safety. Subtitle I, section 106, describes the authority of the FAA Administrator. “Subtitle VII: Aviation Programs”, describes in more detail the scope of the Agency's authority.

We are issuing this rulemaking under the authority described in Subtitle VII, Part A, Subpart III, Section 44701: “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

This AD is issued in accordance with authority delegated by the Executive Director, Aircraft Certification Service, as authorized by FAA Order 8000.51C. In accordance with that order, issuance of ADs is normally a function of the Compliance and Airworthiness Division, but during this transition period, the Executive Director has delegated the authority to issue ADs applicable to engines, propellers, and associated appliances to the Manager, Engine and Propeller Standards Branch, Policy and Innovation Division.

Regulatory Findings

This AD will not have federalism implications under Executive Order 13132. This AD will not have a substantial direct effect on the States, on the relationship between the national government and the States, or on the distribution of power and responsibilities among the various levels of government.

For the reasons discussed above, I certify this AD:

(1) Is not a “significant regulatory action” under Executive Order 12866,

(2) Is not a “significant rule” under the DOT Regulatory Policies and Procedures (44 FR 11034, February 26, 1979),

(3) Will not affect intrastate aviation in Alaska, and

(4) Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2018-16-01 B/E Aerospace Fischer GmbH: Amendment 39-19341; Docket No. FAA-2017-0937; Product Identifier 2017-NE-32-AD.

(a) Effective Date

This AD is effective August 31, 2018.

(b) Affected ADs

None.

(c) Applicability

This AD applies to attendant seats NG and pilot seats 120/335 with part numbers (P/Ns) and serial numbers (S/Ns) listed in Figures 1 and 2 to paragraph (c) of this AD. These seats are known to be installed on, but not limited to, Leonardo S.p.a. (formerly Finmeccanica, AgustaWestland, and Agusta) A109 and AW169 rotorcraft.

Figure 1 to Paragraph (c) of This AD—P/N and S/Ns of Attendant Seat NG
P/N | S/N
1021-A-B-10221-0WX01 | 0232 ,0237, 0252, 0253, 0254, 0255, 0263, 0284, 0285, 0286, 0287, 0288, 0290, 0291, 0307, 0308, 0309, 0310, 0311, 0312, 0313, 0314.

Figure 2 to Paragraph (c) of This AD—P/Ns and S/Ns of Pilot Seat 120/335
P/N | S/N
9911-0-0-X05X11101L2 | 1524, 1525, 1531, 1534.
9911-0-0-X05X11101R2 | 1529, 1530.
9911-0-0-X05X111L1R2 | 1542, 1543.
9911-0-0-X05X111R1L2 | 1541.

(d) Subject

Joint Aircraft System Component (JASC) Code 2510, Flight Compartment Equipment.

(e) Unsafe Condition

This AD was prompted by the discovery that rivets with insufficient strength were used during the manufacture of energy absorber (EA) assemblies installed on certain Attendant Seats NG and Pilot Seats 120/335. We are issuing this AD to prevent malfunction of the EA on the seat. The unsafe condition, if not addressed, could result in injuries to the occupants during an emergency landing.

(f) Compliance

Comply with this AD within the compliance times specified, unless already done.

(g) Required Actions

Within 45 days after the effective date of this AD:

(1) Review each affected attendant seat NG and pilot seat 120/335 to determine if rework has already been performed in accordance with the instructions in the Actions paragraph in B/E Aerospace Fischer Alert Service Bulletin (ASB) No. SB 9911-001, Issue B, dated November 4, 2016. If rework has been performed, no further action is required.

(2) Remove and replace the EA assemblies on each affected pilot seat in accordance with the instructions in the Actions paragraph in B/E Aerospace Fischer ASB No. SB 9911-001, Issue B, dated November 4, 2016.

(3) Remove each affected attendant seat and replace with a reworked seat in accordance with the instructions in the Actions paragraph B/E Aerospace Fischer ASB No. SB 9911-001, Issue B, dated November 4, 2016.

(h) Installation Prohibition

After the effective date of this AD, do not install an affected seat on an aircraft unless, prior to installation, the EA assemblies on the seat have been replaced in accordance with B/E Aerospace Fischer ASB No. SB 9911-001, Issue B, dated November 4, 2016.

(i) Credit for Previous Actions

You may take credit for the actions required by paragraph (g) of this AD if you performed these actions using B/E Aerospace Fischer ASB No. SB 9911-001, Issue A, dated July 14, 2016.

(j) Alternative Methods of Compliance (AMOCs)

(1) The Manager, Boston ACO Branch, FAA, has the authority to approve AMOCs for this AD, if requested using the procedures found in 14 CFR 39.19. In accordance with 14 CFR 39.19, send your request to your principal inspector or local Flight Standards District Office, as appropriate. If sending information directly to the manager of the certification office, send it to the attention of the person identified in paragraph (k)(1) of this AD.

(2) Before using any approved AMOC, notify your appropriate principal inspector, or lacking a principal inspector, the manager of the local flight standards district office/certificate holding district office.

(k) Related Information

(1) For more information about this AD, contact Dorie Resnik, Aerospace Engineer, Boston ACO Branch, FAA, 1200 District Avenue, Burlington, MA, 01803; phone: 781-238-7693; fax: 781- 238-7199; email: dorie.resnik@faa.gov.

(2) Refer to European Aviation Safety Agency (EASA) AD 2016-0210, dated October 24, 2016, for more information. You may examine the EASA AD in the AD docket on the internet at http://www.regulations.gov by searching for and locating it in Docket No. FAA-2017-0937.

(l) Material Incorporated by Reference

(1) The Director of the Federal Register approved the incorporation by reference (IBR) of the service information listed in this paragraph under 5 U.S.C. 552(a) and 1 CFR part 51.

(2) You must use this service information as applicable to do the actions required by this AD, unless the AD specifies otherwise.

(i) B/E Aerospace Fischer Alert Service Bulletin No. SB 9911-001, Issue B, dated November 4, 2016.

(ii) Reserved.

(3) For service information identified in this AD, contact B/E Aerospace Fischer GmbH, Müller-Armack-Str. 4, D-84034 Landshut, Germany; phone: +49 (0) 871 93248-0; fax:+49 (0) 871 93248-22; email: spares@fischer-seats.de.

(4) You may view this service information at FAA, Engine & Propeller Standards Branch, 1200 District Avenue, Burlington, MA, 01803. For information on the availability of this material at the FAA, call 781-238-7759.

(5) You may view this service information that is incorporated by reference at the National Archives and Records Administration (NARA). For information on the availability of this material at NARA, call 202-741-6030, or go to: http://www.archives.gov/federal-register/cfr/ibr-locations.html.

Issued in Burlington, Massachusetts, on August 9, 2018.
Robert J. Ganley,
Manager, Engine and Propeller Standards Branch, Aircraft Certification Service.

[FR Doc. 2018-17648 Filed 8-15-18; 8:45 am]

BILLING CODE 4910-13-P